DEPARTMENT OF TRANSPORTATION

Federal Aviation Administration

Twenty-Second Meeting: RTCA Special Committee 213, Enhanced Flight Vision Systems/Synthetic Vision Systems (EFVS/SVS)

AGENCY: Federal Aviation Administration (FAA), U.S. Department of Transportation (DOT).

ACTION: Meeting Notice of RTCA Special Committee 213, Enhanced Flight Vision Systems/Synthetic Vision Systems (EFVS/SVS).

SUMMARY: The FAA is issuing this notice to advise the public of the twenty-second meeting of the RTCA Special Committee 213, Enhanced Flight Vision Systems/Synthetic Vision Systems (EFVS/SVS).

DATES: The meeting will be held April 23-24, 2013 from 9:00 a.m.-5:00 p.m. and April 25, 2013 from 9:00 a.m.-3:00 p.m.

ADDRESSES: The meeting will be held at RTCA, 1150 18th Street NW., Suite 910, Washington, DC 20036.

FOR FURTHER INFORMATION CONTACT: The RTCA Secretariat, 1150 18th Street NW., Suite 910, Washington, DC 20036, or by telephone at (202) 330-0652/(202) 833-9339, fax at (202) 833-9434, or Web site at http://www.rtca.org. Additional contact information: please contact Tim Etherington, tjetheri@rockwellcollins.com, telephone (319) 295-5233 or mobile at (319) 431-7154, to register for the meeting or Patrick Krohn, pkrohn@uasc.com, telephone (425) 602-1375 or mobile at (425) 829-1996. RTCA contact is Jennifer Iverson, jiverson@rtca.org, (202) 330-0662.

SUPPLEMENTARY INFORMATION: Pursuant to section 10(a)(2) of the Federal Advisory Committee Act (Pub. L. 92-463, 5 U.S.C., App.), notice is hereby given for a meeting of Special Committee 213. The agenda will include the following:

Tuesday, April 23

Plenary Discussion (sign in at 9:00 a.m.)

• Introductions and administrative items.

• Review and approve minutes from last full plenary meeting.

• Review of terms of reference.

• Status of DO-342A and DO-315C Drafts.

• Industry updates.

• DO-315C and DO-342A draft review.

Wednesday, April 24

Plenary Discussion

• WG-1 DO-315C draft review.

• WG-2 DO-342A draft review.

Thursday, April 25

Plenary Discussion

• WG-1 DO-315C draft review.

• WG-1 DO-342A draft review.

• Administrative items.

• Adjourn.

Attendance is open to the interested public but limited to space availability. With the approval of the chairman, members of the public may present oral statements at the meeting. Persons wishing to present statements or obtain information should contact the person listed in the FOR FURTHER INFORMATION CONTACT section. Members of the public may present a written statement to the committee at any time.

Issued in Washington, DC, on March 12, 2013.
Paige Williams,
Management Analyst, NextGen, Business Operations Group, Federal Aviation Administration.

[FR Doc. 2013-06154 Filed 3-15-13; 8:45 am]

BILLING CODE 4910-13-P